DEPARTMENT OF AGRICULTURE

Animal and Plant Health Inspection Service

9 CFR Part 93

[Docket No. 00-109-1]

Spanish Pure Breed Horses from Spain

AGENCY: Animal and Plant Health Inspection Service, USDA.

ACTION: Interim rule and request for comments.

SUMMARY: We are amending the regulations for the importation of Spanish Pure Breed horses from Spain by removing the requirement that the health certificate accompanying imported Spanish Pure Breed horses from Spain specify that the horses, since reaching breeding age, have not been on breeding premises. In place of that requirement, we will require that the health certificate accompanying Spanish Pure Breed horses certify, among other things, that, since reaching breeding age, the horses have not been on a farm that is exclusively a breeding premises; have not been bred; have not attempted to breed; and have not been commingled and left unattended with adult horses of the opposite sex. We are also correcting the name of the horse breed association of Spain. We believe that this action will relieve unnecessary restrictions on the importation of Spanish Pure Breed horses from Spain while continuing to protect against the introduction and dissemination of contagious equine metritis into the United States.

DATES: This interim rule is effective November 16, 2000. We invite you to comment on this docket. We will consider all comments that we receive by January 16, 2001.

ADDRESSES: Please send four copies of your comment (an original and three copies) to: Docket No. 00-109-1, Regulatory Analysis and Development, PPD, APHIS, Suite 3C03, 4700 River Road, Unit 118, Riverdale, MD 20737-1238.

Please state that your comment refers to Docket No. 00-109-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Karen A. James, Assistant Director, Technical Trade Services Team, National Center for Import and Export, VS, APHIS, 4700 River Road Unit 38, Riverdale, MD 20737-1231; (301) 734-8172.

SUPPLEMENTARY INFORMATION:

Background

The regulations in 9 CFR part 93 (referred to below as the regulations) prohibit or restrict the importation of certain animals into the United States to prevent the introduction of communicable diseases of livestock and poultry. Subpart C—Horses, § § 93.300 through 92.326 of the regulations, pertains to the importation of horses into the United States. Section 93.301 of the regulations contains specific provisions for the quarantine and testing of horses from regions affected with contagious equine metritis (CEM), a highly contagious bacterial venereal disease that affects breeding and fertility. Section 93.301 also identifies regions where CEM exists and regions that trade horses freely with regions where CEM exists without testing for CEM. Section 93.301 prohibits, with certain exceptions, the importation of horses into the United States from those areas. The European Union—of which Spain is a Member State—is listed in § 93.301 as a region where CEM exists or may exist.

On August 1, 2000, we published in the Federal Register a final rule (65 FR 46859-46861, Docket No. 99-054-2) that amended the regulations in § 93.301 to allow Spanish Pure Breed stallions and mares that are more than 731 days old that have tested negative for CEM in the country of origin and have undergone Federal quarantine upon arrival in the United States to be imported into the United States without being subject to additional quarantine, testing, and treatment. Essentially, the final rule allowed Spanish Pure Breed Horses from Spain to be imported into the United States under the same preexport testing and quarantine conditions that previously applied only to thoroughbred horses from France, Germany, Ireland, and the United Kingdom.

Under the regulations in § 93.301(d), as amended by our August 1, 2000, final rule, thoroughbred horses from France, Germany, Ireland, and the United Kingdom and Spanish Pure Breed horses from Spain may be imported into the United States under certain conditions. Those conditions include, among other things, a requirement that thoroughbred horses from France, Germany, Ireland, and the United Kingdom and Spanish Pure Breed horses from Spain that are presented for permanent entry into the United States be accompanied by a health certificate.

Under § 93.301(d)(1)(ii), the health certificate accompanying such horses must certify, among other things, that since reaching 731 days of age, the horses have not been on breeding premises in the exporting region. This requirement is intended to protect against the introduction of CEM into the United States by ensuring that only virgin thoroughbred and Spanish Pure Breed horses from countries where CEM exists or may exist are eligible for importation into the United States under the requirements in § 93.301(d). Since CEM is a venereal disease that is spread primarily by sexual contact between horses, we believe that allowing only virgin thoroughbred and Spanish Pure Breed horses to enter the United States greatly reduces the risk that thoroughbred horses from France, Germany, Ireland, and the United Kingdom and Spanish Pure Breed horses from Spain could introduce CEM into the United States.

This requirement has not proven to be burdensome to exporters of thoroughbred horses because thoroughbreds are not, by standard practice, kept on breeding premises. However, we have been informed that Spanish Pure Breed horses in Spain are typically kept on premises where some breeding may occur. Because of this, horses from such premises cannot be certified as not having been on a breeding premises since reaching 731 days of age. The Government of Spain has requested that we amend the regulations in § 93.301(d)(1)(ii) to provide an alternative set of requirements that take into account this standard industry practice in Spain.

After considering the Spanish Government's request, we are removing the requirement that the health certificate accompanying Spanish Pure Breed horses must certify, among other things, that since reaching 731 days of age, the horses have not been on breeding premises in the exporting region. Rather, we will require that the health certificate accompanying Spanish Pure Breed horses specify that, since reaching 731 days of age:

• Each horse has never been on a farm that is exclusively a breeding premises,

• Each horse has never been bred,

• Breeding of each horse has never been attempted, and

• Each horse has never been commingled and left unattended with adult horses of the opposite sex.

We believe that these four requirements are adequate and necessary to ensure that any Spanish Pure Breed horses from Spain that are imported into the United States are virgin horses that present a minimal risk of introducing or disseminating CEM into the United States. Thus, from a disease exclusion and risk reduction standpoint, this change accomplishes what we intended in the August 1, 2000, final rule while making compliance with the regulations easier for persons exporting Spanish Pure Breed horses from Spain to the United States.

This rule will have no effect on the existing requirements for thoroughbred horses imported from France, Germany, Ireland, and the United Kingdom.

In this document, we are also correcting the name of the breed association in Spain that is specifically approved by the U.S. Department of Agriculture to provide factual, current information regarding the activities of Spanish Pure Breed horses for the purposes of § 93.301(d). In the final rule mentioned above, we identified the breed association in Spain as “Servicio de Cria Caballar y Remonta.” The correct name of the Spanish breed association is “Jefatura de Cria Caballar Registro Matricula.”

Immediate Action

Immediate action is necessary to relieve restrictions on the importation of Spanish Pure Breed horses into the United States. When we established the existing requirements for the importation of Spanish Pure Breed horses from Spain, we did not anticipate that compliance with the requirements would be problematic for exporters of those horses. We believe that the changes reflected in this document will relieve unnecessary restrictions while continuing to protect against the introduction of CEM into the United States. Under these circumstances, the Administrator has determined that prior notice and opportunity for public comment are contrary to the public interest and that there is good cause under 5 U.S.C. 553 for making this rule effective less than 30 days after publication in the Federal Register.

We will consider comments that are received within 60 days of publication of this rule in the Federal Register. After the comment period closes, we will publish another document in the Federal Register. The document will include a discussion of any comments we receive and any amendments we are making to the rule as a result of the comments.

Executive Order 12866 and Regulatory Flexibility Act

This rule has been reviewed under Executive Order 12866. The rule has been determined to be not significant for the purposes of Executive Order 12866 and, therefore, has not been reviewed by the Office of Management and Budget.

On August 1, 2000, we published in the Federal Register (65 FR 46859-46861, Docket No. 99-054-2) a final rule that amended the animal importation regulations by allowing Spanish Pure Breed horses to be imported from Spain into the United States under the same conditions that had previously applied only to thoroughbred horses from France, Germany, Ireland, and the United Kingdom. At that time, we conducted a regulatory flexibility analysis for the rule that determined that the rule would not have a significant economic impact on a substantial number of small entities. This rule has the same intended effect as the August 1, 2000, final rule, and simply amends the certification requirements for Spanish Pure Breed horses from Spain by providing a different means of certifying that those horses offered for entry into the United States have not been bred. Therefore, this rule will not result in any economic impacts other than those identified in the August 1, 2000, final rule.

Under these circumstances, the Administrator of the Animal and Plant Health Inspection Service has determined that this action will not have a significant economic impact on a substantial number of small entities.

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no new information collection or recordkeeping requirements under the Paperwork Reduction Act of 1995 (44 U.S.C. 3501 et seq.).

List of Subjects in 9 CFR Part 93

Animal diseases, Imports, Livestock, Poultry and poultry products, Quarantine, Reporting and recordkeeping requirements.

Accordingly, we are amending 9 CFR part 93 as follows:

PART 93—IMPORTATION OF CERTAIN ANIMALS, BIRDS, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622; 19 U.S.C. 1306; 21 U.S.C. 102-105, 111, 114a, 134a, 134b, 134c, 134d, 134f, 136, and 136a; 31 U.S.C. 9701; 7 CFR 2.22, 2.80, and 371.4.

2. In § 93.301, paragraph (d)(1)(ii) is amended as follows:

a. In paragraph (d)(1)(ii), in the introductory text, second sentence, by removing the word “shall” and adding the word “must” in its place.

b. By revising paragraph (d)(1)(ii)(B) to read as follows:

§ 93.301 General Prohibitions; exceptions.

* * * * *

(d) * * *

(1) * * *

(ii) * * *

(B) He or she has examined the records of the horse's activities maintained by a breed association specifically approved by the Department ⁶ and certified by the breed association to be current, true, and factual for the following information:

⁶ The following breed associations and their record systems have been approved by the Department: Jefatura de Cria Caballar Registro Matricula for Spain; Weatherby's Ltd. for the United Kingdom and Ireland; Haras du Pain for France; and Direktorium für Vollblutzucht und Rennen e.v. for Germany.

(1) Identification of the horse by name, sex, age, breed, and all identifying marks;

(2) Identification of all premises where the horse has been since reaching 731 days of age and the dates that the horse was at such premises;

(3) For thoroughbred horses, that none of the premises where the horse has been since reaching 731 days of age are breeding premises; and

(4) For Spanish Pure Breed horses from Spain, that since reaching 731 days of age:

(i) The horse has never been on a premises that is exclusively a breeding premises;

(ii) The horse has never been bred;

(iii) Breeding of the horse has never been attempted; and

(iv) The horse has never been commingled and left unattended with adult horses of the opposite sex;

* * * * *

Done in Washington, DC, this 9th day of November 2000.
Craig A. Reed,
Administrator, Animal and Plant Health Inspection Service.

[FR Doc. 00-29365 Filed 11-15-00; 8:45 am]

BILLING CODE 3410-34-U